DEPARTMENT OF COMMERCE

International Trade Administration

[C-331-806, C-533-921, C-560-843, C-552-838]

Frozen Warmwater Shrimp From Ecuador, India, Indonesia, and the Socialist Republic of Vietnam: Postponement of Preliminary Determinations in the Countervailing Duty Investigations

AGENCY: Enforcement and Compliance, International Trade Administration, Department of Commerce.

DATES: Applicable December 7, 2023.

FOR FURTHER INFORMATION CONTACT: Zachary Shaykin (Ecuador), Steven Seifert (India), Kelsie Hohenberger (Indonesia), and Adam Simons (the Socialist Republic of Vietnam (Vietnam)), AD/CVD Operations, Offices II, IV, V, and IX, Enforcement and Compliance, International Trade Administration, U.S. Department of Commerce, 1401 Constitution Avenue NW, Washington, DC 20230; telephone: (202) 482-2638, (202) 482-3350, (202) 482-2517, and (202) 482-6172, respectively.

SUPPLEMENTARY INFORMATION:

Background

On November 14, 2023, the U.S. Department of Commerce (Commerce) initiated countervailing duty investigations of imports of frozen warmwater shrimp from Ecuador, India, Indonesia, and Vietnam.¹ Currently, the preliminary determinations are due no later than January 18, 2024.

¹ See Frozen Warmwater Shrimp from Ecuador, India, Indonesia, and the Socialist Republic of Vietnam: Initiation of Countervailing Duty Investigations, 88 FR 81053 (November 21, 2023).

Postponement of Preliminary Determinations

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On November 27, 2023, the petitioner ² submitted a timely request to postpone the preliminary determinations in these investigations.³ The petitioner stated that postponement of the preliminary determinations is necessary because the current schedule does not provide adequate time for a complete analysis given the complexity of the issues in these cases and the number of subsidy programs under investigation in each.⁴

² The petitioner is the American Shrimp Processors Association.

³ See Petitioner's Letter, “Request to Extend the Preliminary Determination,” dated November 27, 2023.

⁴ Id.

In accordance with 19 CFR 351.205(e), the petitioner has stated the reasons for requesting a postponement of the preliminary determinations, and Commerce finds there are no compelling reasons to deny the request. Therefore, in accordance with section 703(c)(1)(A) of the Act, Commerce is postponing the deadline for the preliminary determinations to no later than 130 days after the day on which these investigations were initiated, i.e., March 25, 2024.⁵ Pursuant to section 705(a)(1) of the Act and 19 CFR 351.210(b)(1), the deadline for the final determinations of these investigations will continue to be 75 days after the date of the preliminary determinations.

⁵ Postponing the preliminary determination to 130 days after initiation would place the deadline on Saturday, March 23, 2024. Commerce's practice dictates that where a deadline falls on a weekend or a federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: December 1, 2023.
Abdelali Elouaradia,
Deputy Assistant Secretary for Enforcement and Compliance.

[FR Doc. 2023-26883 Filed 12-6-23; 8:45 am]

BILLING CODE 3510-DS-P